DEPARTMENT OF HOMELAND SECURITY

Office of the Secretary

[Docket No. DHS-2005-0068]

Notice of Meeting of the Advisory Committee to the National Center for State and Local Law Enforcement Training.

AGENCY: Federal Law Enforcement Training Center, DHS.

ACTION: Meeting.

SUMMARY: The Advisory Committee to the National Center for State and Local Law Enforcement Training will meet at the Embassy Suites, 500 Mall Boulevard, Brunswick, GA, on November 2, 2005, beginning at 8 a.m.

DATES: November 2, 2005.

ADDRESSES: If you desire to submit comments, they must be submitted within 10 days after publishing of Notice. Comments must be identified by DHS-2005-0068 and may be submitted by one of the following methods:

• Federal eRulemaking Portal: http://www.regulations.gov. Follow the instructions for submitting comments.

• E-mail: reba.fischer@dhs.gov. Include docket number in the subject line of the message.

• Fax: (912) 267-3531. (Not a toll-free number).

• Mail: Reba Fischer, Federal Law Enforcement Training Center, Department of Homeland Security, 1131 Chapel Crossing Road, Townhouse 396, Glynco, GA 31524.

Instructions: All submissions received must include the agency name and docket number for this rulemaking. All comments received will be posted without change to http://www.regulations.gov, including any personal information provided.

Docket: For access to the docket to read background documents or comments received, go to www.regulations.gov.

FOR FURTHER INFORMATION CONTACT: Reba Fischer, Designated Federal Officer, 912-267-2343, reba.fischer@dhs.gov.

SUPPLEMENTARY INFORMATION: Notice of this meeting is given under the Federal Advisory Committee Act, 5 U.S.C. App. 1 et seq. The agenda for this meeting includes briefings from FLETC staff on National Center training, FY06 planning, and discussion on strategic goals and training needs of state, local, campus, and tribal law enforcement officers. This meeting is open to the public.

Stanley Moran,
Director, National Center for State and Local Law Enforcement Training.

[FR Doc. 05-20345 Filed 10-7-05; 8:45 am]

BILLING CODE 4410-10-P